DEPARTMENT OF ENERGY

Federal Energy Regulatory Commission

Combined Notice of Filings #1

Take notice that the Commission received the following electric corporate filings:

Docket Numbers: EC23-74-000.

Applicants: Energy Harbor Corp.

Description: Energy Harbor Corp., et. al. submits Supplemental Submission and Request Not To Adjust Comment Period.

Filed Date: 5/15/23.

Accession Number: 20230515-5180.

Comment Date: 5 p.m. ET 6/16/23.

Take notice that the Commission received the following electric rate filings:

Docket Numbers: ER23-1942-000.

Applicants: Idaho Power Company.

Description: § 205(d) Rate Filing: RS 172—IPC/PAC Kinport Construction Agreement to be effective 4/14/2023.

Filed Date: 5/23/23.

Accession Number: 20230523-5198.

Comment Date: 5 p.m. ET 6/13/23.

Docket Numbers: ER23-1943-000.

Applicants: Idaho Power Company.

Description: § 205(d) Rate Filing: RS 173—IPC/PAC Midpoint Construction Agreement to be effective 4/14/2023.

Filed Date: 5/23/23.

Accession Number: 20230523-5202.

Comment Date: 5 p.m. ET 6/13/23.

Docket Numbers: ER23-1944-000.

Applicants: Skylar Energy Resources LLC.

Description: Tariff Amendment: Cancellation entire tariff to be effective 5/24/2023.

Filed Date: 5/23/23.

Accession Number: 20230523-5216.

Comment Date: 5 p.m. ET 6/13/23.

Docket Numbers: ER23-1945-000.

Applicants: Skylar Power Marketing, LLC.

Description: Tariff Amendment: Cancellation entire tariff to be effective 5/24/2023.

Filed Date: 5/23/23.

Accession Number: 20230523-5217.

Comment Date: 5 p.m. ET 6/13/23.

Docket Numbers: ER23-1946-000.

Applicants: PacifiCorp.

Description: § 205(d) Rate Filing: Certificate of Concurrence to Kinport Construction Agreement to be effective 4/14/2023.

Filed Date: 5/24/23.

Accession Number: 20230524-5000.

Comment Date: 5 p.m. ET 6/14/23.

Docket Numbers: ER23-1947-000.

Applicants: PacifiCorp.

Description: § 205(d) Rate Filing: Certificate of Concurrence to Midpoint Construction Agreement to be effective 4/14/2023.

Filed Date: 5/24/23.

Accession Number: 20230524-5001.

Comment Date: 5 p.m. ET 6/14/23.

Docket Numbers: ER23-1948-000.

Applicants: Southwest Power Pool, Inc.

Description: § 205(d) Rate Filing: 1518R26 Arkansas Electric Cooperative Corp NITSA NOA to be effective 8/1/2023.

Filed Date: 5/24/23.

Accession Number: 20230524-5009.

Comment Date: 5 p.m. ET 6/14/23.

Docket Numbers: ER23-1949-000.

Applicants: Midcontinent Independent System Operator, Inc.

Description: § 205(d) Rate Filing: 2023-05-24_Cancellation of Schedule 43J Teche Unit No. 3 SSR Cost Allocation to be effective 7/24/2023.

Filed Date: 5/24/23.

Accession Number: 20230524-5018.

Comment Date: 5 p.m. ET 6/14/23.

Docket Numbers: ER23-1950-000.

Applicants: Midcontinent Independent System Operator, Inc.

Description: § 205(d) Rate Filing: 2023-05-24_SA 4066 NIPSCO-Sedge Meadow Solar Park GIA (J1407) to be effective 5/25/2023.

Filed Date: 5/24/23.

Accession Number: 20230524-5034.

Comment Date: 5 p.m. ET 6/14/23.

Docket Numbers: ER23-1951-000.

Applicants: PJM Interconnection, L.L.C.

Description: § 205(d) Rate Filing: Amendment to ISA, SA No. 5869; Queue No. AE2-126 (amend) to be effective 7/24/2023.

Filed Date: 5/24/23.

Accession Number: 20230524-5058.

Comment Date: 5 p.m. ET 6/14/23.

Docket Numbers: ER23-1952-000.

Applicants: Alabama Power Company, Georgia Power Company, Mississippi Power Company.

Description: § 205(d) Rate Filing: Alabama Power Company submits tariff filing per 35.13(a)(2)(iii: Chilatchee 115B LGIA Filing to be effective 5/12/2023.

Filed Date: 5/24/23.

Accession Number: 20230524-5091.

Comment Date: 5 p.m. ET 6/14/23.

Docket Numbers: ER23-1953-000.

Applicants: Midcontinent Independent System Operator, Inc.

Description: § 205(d) Rate Filing: 2023-05-24_SA 3373 Entergy Arkansas-Newport Solar 2nd Rev GIA (J919 J1402) to be effective 5/16/2023.

Filed Date: 5/24/23.

Accession Number: 20230524-5100.

Comment Date: 5 p.m. ET 6/14/23.

Docket Numbers: ER23-1954-000.

Applicants: EIP Investment, LLC.

Description: Initial rate filing: Exhibit C adding to be effective 5/24/2023.

Filed Date: 5/24/23.

Accession Number: 20230524-5136.

Comment Date: 5 p.m. ET 6/14/23.

Docket Numbers: ER23-1955-000.

Applicants: Earthrise Lincoln Interconnection, LLC.

Description: Baseline eTariff Filing: Filing of SFA and Request for Associated Waivers and Blanket Authorization to be effective 12/31/9998.

Filed Date: 5/24/23.

Accession Number: 20230524-5167.

Comment Date: 5 p.m. ET 6/14/23.

Docket Numbers: ER23-1956-000.

Applicants: Earthrise Tilton Interconnection, LLC.

Description: Baseline eTariff Filing: Filing of SFA and Request for Associated Waivers and Blanket Authorization to be effective 12/31/9998.

Filed Date: 5/24/23.

Accession Number: 20230524-5174.

Comment Date: 5 p.m. ET 6/14/23.

Docket Numbers: ER23-1957-000.

Applicants: Earthrise Gibson City Interconnection, LLC.

Description: Baseline eTariff Filing: Filing of SFA and Request for Associated Waivers and Blanket Authorization to be effective 12/31/9998.

Filed Date: 5/24/23.

Accession Number: 20230524-5177.

Comment Date: 5 p.m. ET 6/14/23.

Docket Numbers: ER23-1958-000.

Applicants: Earthrise Shelby County Interconnection, LLC.

Description: Baseline eTariff Filing: Filing of SFA and Request for Associated Waivers and Blanket Authorization to be effective 12/31/9998.

Filed Date: 5/24/23.

Accession Number: 20230524-5178.

Comment Date: 5 p.m. ET 6/14/23.

Docket Numbers: ER23-1959-000.

Applicants: Earthrise Crete Interconnection, LLC.

Description: Baseline eTariff Filing: Filing of SFA and Request for Associated Waivers and Blanket Authorization to be effective 12/31/9998.

Filed Date: 5/24/23.

Accession Number: 20230524-5179.

Comment Date: 5 p.m. ET 6/14/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2023.
Debbie-Anne A. Reese,
Deputy Secretary.

[FR Doc. 2023-11503 Filed 5-30-23; 8:45 am]

BILLING CODE 6717-01-P